DEPARTMENT OF TRANSPORTATION

Federal Railroad Administration

[Docket Number FRA-2006-25040]

Petition for Modification of Waiver of Compliance

Under part 211 of title 49 Code of Federal Regulations (CFR), this document provides the public notice that by letter dated August 21, 2024, Capital Metropolitan Transportation Authority (CMTY) petitioned the Federal Railroad Administration (FRA) for a modification of a waiver of compliance from certain provisions of the Federal railroad safety regulations contained at 49 CFR part 222 (Use of Locomotive Horns at Public Highway-Rail Grade Crossings), part 229 (Railroad Locomotive Safety Standards), part 231 (Railroad Safety Appliance Standards), part 234 (Grade Crossing Safety), and part 238 (Passenger Equipment Safety Standards). The relevant Docket Number is FRA-2006-25040.

Specifically, CMTY requested to amend its current waiver that provides relief for its commuter rail system that connects downtown Austin, Texas, with Austin's northern suburbs along 32 miles with 9 stations. CMTY seeks to add a fleet of four Stadler GTW fourth-generation diesel multiple unit (DMU) rail vehicles to its existing fleet of six Stadler GTW first-generation DMUs.

In support of its request, CMTY explained that their vehicles demonstrate “an equivalent level of safety and compliance,” given the Alternative Vehicle Technology final rule amendments in 49 CFR part 238.

A copy of the petition, as well as any written communications concerning the petition, is available for review online at www.regulations.gov.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted at www.regulations.gov. Follow the online instructions for submitting comments.

Communications received by December 30, 2024 will be considered by FRA before final action is taken. Comments received after that date will be considered if practicable.

Anyone can search the electronic form of any written communications and comments received into any of the U.S. Department of Transportation's (DOT) dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2024-25083 Filed 10-28-24; 8:45 am]

BILLING CODE 4910-06-P